DEPARTMENT OF THE INTERIOR

Bureau of Indian Affairs

Indian Gaming

AGENCY: Bureau of Indian Affairs, Interior.

ACTION: Notice of amendment to approved Tribal-State Compact.

SUMMARY: Under Section 11 of the Indian Gaming Regulatory Act of 1988 (IGRA), Public Law 100-497, 25 U.S.C. 2710, the Secretary of the Interior shall publish, in the Federal Register, a notice of the approved Tribal-State compacts for the purpose of engaging in Class III gaming activities on Indian lands. The Assistance Secretary—Indian Affairs, Department of the Interior, through his delegated authority, has approved Amendment VII to the Class III gaming compact between the Burns-Paiute Tribe and the State of Oregon.

EFFECTIVE DATE: December 18, 2002.

FOR FURTHER INFORMATION CONTACT: George T. Skibine, Director, Office of Indian Gaming Management, Bureau of Indian Affairs, Washington, DC 20240, (202) 219-4066.

Dated: November 13, 2002.
Neal A. McCaleb,
Assistant Secretary—Indian Affairs.

[FR Doc. 02-31874 Filed 12-17-02; 8:45 am]

BILLING CODE 4310-4N-M